DEPARTMENT OF TRANSPORTATION

Federal Railroad Administration

[Docket Number FRA-2006-24812]

Petition for Waiver of Compliance

In accordance with Part 211 of Title 49 Code of Federal Regulations (CFR), this document provides the public notice that by a document dated July13, 2012, the BNSF Railway (BNSF) has petitioned the Federal Railroad Administration (FRA) for a waiver of compliance from certain provisions of the Federal railroad safety regulations contained at 49 CFR part 232—Brake System Safety Standards for Freight and Other Non-Passenger Trains and Equipment, End-of-Train Devices. FRA assigned the petition Docket Number FRA-2006-24812.

BNSF seeks a waiver of compliance from certain requirements of 49 CFR part 232. Specifically, BNSF requests to expand the scope of the existing waiver that granted relief from the maximum mileage and inspection requirements specified by 49 CFR 232.213—Extended haul trains, for certain trains identified in Exhibit A to its July 13, 2012, petition. These trains originate at various Powder River Basin coal mines and terminate at the following locations: Isugen, NE; Becker, MN; Breckenridge, MN; Dilworth, MN; Harrington, TX; and Holcomb, KS.

Given the increased demand for coal by the utility industry, BNSF believes that granting this relief will relieve congestion while maintaining high-quality inspections. The railroad also believes that the waiver's expanded scope will not compromise railroad safety.

In support of the expanded scope of the existing waiver, BNSF's petition further states that the additional extended haul trains modestly exceed the 1,500-mile extended haul threshold. As the trains covered by this request are the very same type of equipment as the trains that are presently subject to this waiver, BNSF believes that there is no anticipated deviation from the current high level of safety.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by March 25, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on February 4, 2013.
Robert C. Lauby,
Deputy Associate Administrator for Regulatory and Legislative Operations.

[FR Doc. 2013-02769 Filed 2-6-13; 8:45 am]

BILLING CODE 4910-06-P